DEPARTMENT OF COMMERCE

National Oceanic and Atmospheric Administration Hydrographic Services Review Panel Meeting

AGENCY: National Ocean Service, National Oceanic and Atmospheric Administration (NOAA), Department of Commerce.

ACTION: Notice of open public meeting and request for comments.

SUMMARY: The Hydrographic Services Review Panel (HSRP) will hold a meeting that will be open to the public, April 28-30, 2020, in Oahu, Hawaii. Public comments are requested in advance and/or during the meeting. Information about the HSRP meeting, agenda, presentations, webinar registration, and background documents will be posted and updated online. To promote zero waste, all meeting documents will be available for downloading the week prior to the meeting at: https://www.nauticalcharts.noaa.gov/hsrp/hsrp.htm and https://www.nauticalcharts.noaa.gov/hsrp/meetings.htm.

DATES: The meeting is two and a half days during April 28-30, 2020, in Oahu, HI. The agenda, speakers and times are subject to change. The draft agenda will be posted online in January 2020 and the meeting location will be announced in April 2020. For updates, please check online, sign up for emails, or contact the organizers. To receive the meeting announcements by email including the agenda, venue, and to inform the attendance estimate, please sign up below or email: https://docs.google.com/forms/d/1SHBr5gDqpBHildSGbymFgMqckHLmKEry7bLi0L_N1SQ/edit?vc=0&c=0&w=1.

FOR FURTHER INFORMATION CONTACT: Lynne Mersfelder-Lewis, HSRP program manager, National Ocean Service, Office of Coast Survey, NOAA (N/CS), 1315 East-West Highway, SSMC3 #6413, Silver Spring, Maryland 20910; email: Lynne.Mersfelder@noaa.gov and Virginia.Dentler@noaa.gov; telephone: 240-533-0064.

SUPPLEMENTARY INFORMATION: The meeting is open to the public. To receive meeting updates and inform the participant list, please sign up as noted above, or you can email your name, organization and email address contact. Seating will be available on a first-come, first-served basis. Public comment is encouraged on the topics of the HSRP meeting and there are public comment periods scheduled each day noted in the agenda. Each individual or group making verbal or written comments will be limited to one comment per public comment period and a total time of five (5) minutes, will be recorded and transcribed, and comments will become part of the meeting record. For those not onsite, comments can be submitted in writing via email prior to the meeting or by email during the meeting. Public comments are encouraged and individuals or groups who would like to submit advance written statements should email their comments to Lynne.Mersfelder@noaa.gov, Virginia.Dentler@noaa.gov and hydrographic.services@noaa.gov. The HSRP will provide webinar capability. Pre-registration is required to access the webinar: https://register.gotowebinar.com/rt/6546237546550851853.

The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice. The charter, issue papers with recommendations, and other information are located online at: https://www.nauticalcharts.noaa.gov/hsrp/CharterBylawsHSIAStatute.htm.

Past recommendations and issue papers are at: https://www.nauticalcharts.noaa.gov/hsrp/recommendations.htm.

Past HSRP public meeting summary reports, agendas, presentations, transcripts, and other information is available online at: https://www.nauticalcharts.noaa.gov/hsrp/meetings.htm.

Matters to be Considered: The panel is convening on issues relevant to NOAA's navigation services, Hawaii and the Pacific and elsewhere, including stakeholder use of navigation services data, products and services, flooding, inundation and sea level rise, hydrographic survey and nautical charting, the National Spatial Reference System (NSRS), legislative priorities and other topics. Navigation services include the data, products, and services provided by the NOAA programs and activities that undertake geodetic observations, gravity modeling, shoreline mapping, bathymetric mapping, hydrographic surveying, nautical charting, tide and water level observations, current observations, marine modeling, and related topics. This suite of NOAA products and services support safe and efficient navigation, resilient coasts and communities, and the nationwide positioning information infrastructure to support America's commerce. The Panel will hear from state and federal agencies, non-federal organizations and associations, local, regional and national stakeholders and partners about their missions and use of NOAA's navigation services, the value these services bring, and what improvements could be made. Other administrative matters may be considered. The agenda and speakers are subject to change, please refer to the website for the most updated information.

Special Accommodations: This meeting is physically accessible to people with disabilities. Please direct requests for sign language interpretation or other auxiliary aids to Lynne.Mersfelder@noaa.gov by March 31, 2020.

Elizabeth I. Kretovic,
Deputy Hydrographer, Office of Coast Survey, National Ocean Service, National Oceanic and Atmospheric Administration.

[FR Doc. 2020-03892 Filed 2-27-20; 8:45 am]

BILLING CODE 3510-JE-P